FEDERAL COMMUNICATIONS COMMISSION

[IB Docket No. 16-185; DA 23-72; FR ID 125216]

World Radiocommunication Conference Advisory Committee Schedules Its Seventh Meeting on April 11, 2023

AGENCY: Federal Communications Commission.

ACTION: Notice.

SUMMARY: In accordance with the Federal Advisory Committee Act, this notice advises interested persons that the seventh meeting of the World Radiocommunication Conference Advisory Committee (WAC or Advisory Committee) will be held on April 11, 2023 at the Federal Communications Commission (FCC). The meeting is open to the public. This seventh Advisory Committee meeting will consider status reports and recommendations from its Informal Working Groups (IWG-1, IWG-2, IWG-3, and IWG-4) concerning preparation for the 2023 World Radiocommunication Conference (WRC-23). The Commission's WRC-23 website (www.fcc.gov/wrc-23) contains the latest information on the IWG and WAC meeting agendas and audience participation information, all scheduled meeting dates and updates, and Advisory Committee matters. Comments may be presented at the Advisory Committee meeting or in advance of the meeting by email to: WRC-23@fcc.gov.

DATES: Tuesday, April 11, 2023 at 11 a.m.

ADDRESSES: Federal Communications Commission, 45 L Street NE, Room 1.200, Washington, DC 20002.

FOR FURTHER INFORMATION CONTACT: Dante Ibarra, Designated Federal Official, World Radiocommunication Conference Advisory Committee, FCC International Bureau, Global Strategy and Negotiation Division, at Dante.Ibarra@fcc.gov, (202)-418-0610 or WRC-23@fcc.gov.

SUPPLEMENTARY INFORMATION: The FCC established the Advisory Committee to provide advice, technical support and recommendations relating to the preparation of United States proposals and positions for the 2023 World Radiocommunication Conference (WRC-23).

In accordance with the Federal Advisory Committee Act, Public Law 92-463, as amended, this notice advises interested persons of the seventh meeting of the Advisory Committee. The Commission's WRC-23 website (www.fcc.gov/wrc-23) contains the latest information on the IWG and WAC meeting agendas and audience participation information, all scheduled meeting dates and updates, and WRC-23 Advisory Committee matters. The seventh Advisory Committee meeting will be broadcast live with open captioning over the internet from the FCC Live web page at www.fcc.gov/live. There will be audience participation available; send live questions to livequestions@fcc.gov only during this meeting. Reasonable accommodations for people with disabilities are available upon request. Include a description of the accommodation you will need and tell us how to contact you if we need more information. Make your request as early as possible. Last minute requests will be accepted, but may be impossible to fill. Send an email to: FCC504@fcc.gov or call the Consumer and Governmental Affairs Bureau at 202-418-0530 (voice).

The proposed agenda for the seventh WAC meeting is as follows:

Agenda

Seventh Meeting of the World Radiocommunication Conference Advisory Committee

Federal Communications Commission

Tuesday, April 11, 2023; 11 a.m.

1. Opening Remarks

2. Approval of Agenda

3. Approval of the Minutes of the Sixth Meeting

4. IWG Reports and Consideration Documents

5. Future Meetings

6. Other Business

Federal Communications Commission.
Nese Guendelsberger,
Deputy Bureau Chief, International Bureau.

[FR Doc. 2023-02111 Filed 1-31-23; 8:45 am]

BILLING CODE 6712-01-P